DEPARTMENT OF THE TREASURY

Submission for OMB Review; Comment Request

September 25, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before November 2, 2000 to be assured of consideration.

Internal Revenue Service (IRS)

OMB Number: 1545-0212.

Form Number: IRS Form 5558.

Type of Review: Extension.

Title: Application for Extension of Time to File Certain Employee Plan Returns.

Description: This form is used by employers to request an extension of time to file the employee plan annual information return/report (Form 5500 series) or employee plan excise tax return (Form 5330). The data supplied is used to determine if such extension of time is warranted.

Respondents: Business or other for-profit, Not-for-profit institutions.

Estimated Number of Respondents: 335,000.

Estimated Burden Hours Per Respondents: 33 minutes.

Frequency of Response: On occasion.

Estimated Total Reporting Burden: 185,724 hours.

OMB Number: 1545-1276.

Regulation Project Number: FI-88-86 Final (TD 8458).

Type of Review: Extension.

Title: Real Estate Mortgage Investment Conduits.

Description: Section 860E(e) imposes an excise tax on the transfer of a residual interest in a REMIC to a disqualified party. The tax must be paid by the transferor of a pass-thru entity of which the disqualified party is an interest holder.

Respondents: Business or other for-profit.

Estimated Number of Respondents: 1,600.

Estimated Burden Hours Per Respondents: 20 minutes.

Frequency of Response: Annually.

Estimated Total Reporting Burden: 525 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports Management Officer.

[FR Doc. 00-25297 Filed 10-2-00; 8:45 am]

BILLING CODE 4830-01-P